SECURITIES AND EXCHANGE COMMISSION

Sunshine Act Meetings

Notice is hereby given, pursuant to the provisions of the Goverment in the Sunshine Act, Public Law 94-409, that the Securities and Exchange Commission will hold the following meetings during the week of September 8, 2003:

Closed Meetings will be held on Tuesday, September 9, 2003, at 2 p.m. and Wednesday, September 10, 2003, at 11 a.m., and Open Meetings will be held on Wednesday, September 10, 2003, at 10 a.m. and Thursday, September 11, 2003, at 10 a.m.

Commissioner Atkins, as duty officer, determined that no earlier notice thereof was possible.

Commissioners, Counsel to the Commissioners, the Secretary to the Commission, and recording secretaries will attend the Closed Meetings. Certain staff members who have an interest in the matters may also be present.

The General Counsel of the Commission, or his designee, has certified that, in his opinion, one or more of the exemptions set forth in 5 U.S.C. 552b(c)(5), (7), (9)(B) and (10) and 17 CFR 200.402(a)(5), (7), (9)(ii) and (10), permit consideration of the scheduled matters at the Closed Meetings

The subject matter of the Closed Meeting scheduled for Tuesday, September 9, 2003, will be:

Institution and settlement of administrative proceedings of an enforcement nature;

Institution and settlement of injunctive actions;

Formal orders of investigation; and

Adjudicatory matter.

The subject matter for the Open Meeting scheduled for Wednesday, September 10, 2003 will be:

1. The Commission will hear oral argument on an appeal by the Barr Financial Group, Inc. (“BFG”), an investment adviser, and Alfred E. Barr (“Barr”), BFG's president, from the decision of an administrative law judge.

The law judge found that:

a. Respondents violated section 207 of the Investment Advisers Act of 1940 (“Advisers Act”) by making untrue statements of material fact in Forms ADV and ADV amendments filed by BFG during 1997 and 1998. Respondents' statements concerned the amount of assets BFG had under management and Barr's academic credentials;

b. Respondents were permanently enjoined in 1999 from violating Advisers Act section 204 and “regulations thereunder governing the conduct of investment advisers under Rule 204-2 of the Advisers Act.”

The law judge ordered both respondents to cease and desist from committing or causing any violations or future violations of Advisers Act sections 204 and 207, barred Barr from associating with any investment adviser, and revoked BFG's registration as an investment adviser.

Among the issues likely to be argued are:

a. Whether the evidence supports the allegations;

b. Whether and to what extent sanctions should be imposed in the public interest.

For further information, please contact the Office of the Secretary at (202) 942-7070.

2. The Commission will hear oral argument on an appeal by the Division of Enforcement from the decision of an administrative law judge.

The law judge found that the Division of Enforcement failed to prove that Jeffrey M. Steinberg and John Geron, (“the Respondents”), certified public accountants and former partners of accounting firm Arthur Andersen & Co., L.L.P., caused violations by Spectrum Information Technologies, Inc. (“Spectrum”) of section 13(a) of the Securities Exchange Act of 1934 and Rules 13a-13 and 12b-20 thereunder (“the reporting provisions”), and the law judge dismissed the proceedings against the Respondents. The law judge concluded that the Respondents' accounting advice to Spectrum was consistent with generally accepted accounting principles (“GAAP”). The law judge determined also that Spectrum's quarterly reports filed with the Commission on Forms 10-Q for the periods ended June 30, 1993, and September 30, 1993, the reports at issue, adequately disclosed certain licensing transactions.

The Division has requested that the Commission reverse the law judge's findings of fact and conclusions of law and his dismissal of all charges, and issue cease-and-desist orders against the Respondents.

Among the issues likely to be argued are:

a. Whether Spectrum's accounting treatment was consistent with GAAP;

b. Whether the Respondents acted negligently;

c. Whether the Respondents were “a cause” of Spectrum's violations of the reporting provisions within the meaning of Exchange Act section 21C; and

d. Whether issuance of cease-and-desist orders against the Respondents is in the public interest.

For further information, please contact the Office of the Secretary at (202) 942-7070.

The subject matter for the Closed Meeting scheduled for Wednesday, September 10, 2003 will be: Post argument discussion.

The subject matter for the Open Meeting scheduled for Thursday, September 11, 2003, will be:

1. The Commission will consider whether to adopt amendments to rule 206(4)-2, the custody rule under the Investment Advisers Act of 1940, to enhance the protections afforded to advisory clients' assets, harmonize the rule with current custodial practices, and clarify circumstances under which advisers have custody of client assets.

For further information, please contact Vivien Liu at (202) 942-0664.

2. The Commission will consider whether to propose a rule to exempt qualified foreign banks from the insider lending prohibition of the Securities Exchange Act of 1934 section 13(k), as added by section 402 of the Sarbanes-Oxley Act. The proposed rule would exempt foreign banks that meet specified criteria similar to those that qualify domestic banks for the exemption under section 13(k). The Commission will also consider whether to propose an amendment to Form 20-F that would require a foreign bank issuer to provide the same disclosure regarding problematic loans to insiders as that required for domestic banks under Regulation S-K.

For further information contact Elliot Staffin at (202) 942-2990.

3. The Commission will also consider whether to propose an amendment to For F-6 that would add an eligibility requirement making the form unavailable to register under the Securities Act of 1933 depositary shares evidenced by American depositary receipts if the foreign issuer has separately listed the deposited securities on a registered national securities exchange or automated inter-dealer quotation system of a national securities association.

For further information please contact Michael Coco at (202) 942-2990.

At times, changes in Commission priorities require alterations in the scheduling of meeting items.

For further information and to ascertain what, if any, matters have been added, deleted, or postponed, please contact the Office of the Secretary at (202) 942-7070.

Dated: September 3, 2003.
Jonathan G. Katz,
Secretary.

[FR Doc. 03-22771 Filed 9-3-03; 12:52 pm]

BILLING CODE 8010-01-M